DEPARTMENT OF THE INTERIOR

[ID-200-1120-PH]

Bureau of Land Management

AGENCY: Bureau of Land Management, Interior.

ACTION: Notice of September Resource Advisory Council Meeting to be held in Twin Falls District, ID.

SUMMARY: This notice announces the intent to hold a Resource Advisory Council (RAC) meeting in the Twin Falls District of Idaho on Wednesday, September 12, 2007. The meeting will be held at the Red Lion Canyon Springs Hotel, 1357 Blue Lakes Boulevard North, Twin Falls, Idaho.

SUPPLEMENTARY INFORMATION: The Twin Falls District Resource Advisory Council consists of the standard fifteen members residing throughout south central Idaho. Meeting agenda items will include updates on the 2007 Fire Season, Jarbidge Field Office RMP effort, Field Offices updates, recreation fee efforts in partnership with the Forest Service and more.

FOR FURTHER INFORMATION CONTACT: Sky Buffat, Twin Falls District, Idaho, 400 West F Street, Shoshone, Idaho 83352, (208) 732-7307.

Dated: August 14, 2007.
Bill Baker,
Twin Falls District Manager.

[FR Doc. E7-17181 Filed 8-29-07; 8:45 am]

BILLING CODE 4310-GG-P